DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent application listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent application.

A New Target for Angiogenesis and Anti-angiogenesis Therapy

Frank Cuttitta et al. (NCI).

U.S. Provisional Application No. 60/425,018 filed 07 Nov 2002 (DHHS Reference No. E-294-2002/0-US-01).

Licensing Contact: Catherine Joyce; 301/435-5031; joycec@mail.nih.gov.

Proadrenomedullin N-terminal 20 peptide (PAMP) is a 20 amino-acid molecule originating from the post-translational processing of pre-proadrenomedullin. PAMP has heretofore been known as a potent hypotensive and vasodilatory agent. PAMP and adrenomedullin (AM) are the two known bioactive products generated from cleavage of pre-proadrenomedullin. PAMP and AM are known to have vasodilatory and hypotensive activities. AM is also known to have angiogenic activity, whereas no such activity has previously been attributed to PAMP.

The inventors have discovered that, in addition to its hypotensive and vasodilatory effects, PAMP functions as a potent angiogenic factor. When compared to other well-known angiogenic factors such as vascular endothelial growth factor (VEGF) and basic fibroblast growth factor (bFGF), PAMP is roughly one million times more potent on a molar basis.

In one aspect, the invention relates to the use of PAMP inhibitors to inhibit angiogenesis in vivo. These methods would be useful, for example, in inhibiting the growth of tumors and in treating other diseases characterized by excessive angiogenesis including psoriasis, diabetic retinopathy, and chronic wounds. In a second aspect, the invention relates to the use of PAMP or PAMP derivatives to promote angiogenesis, for example, in subjects with coronary artery disease or cerebral ischemia.

Dated: September 27, 2003.
Steven M. Ferguson,
Director, Division of Technology Development and Transfer, Office of Technology Transfer, National Institutes of Health.

[FR Doc. 03-25072 Filed 10-2-03; 8:45 am]

BILLING CODE 4140-01-P